DEPARTMENT OF STATE

[Public Notice 5543]

Determination on U.S. Position on Proposed European Bank for Reconstruction and Development (EBRD) Project in Bosnia and Herzegovina

Pursuant to section 561 of the Foreign Operations, Export Financing, and Related Programs Appropriations Act, 2006 (Pub. L. 109-102) (FOAA), and Department of State Delegation of Authority Number 289, I hereby determine that the proposed 20 million Euro EBRD investment package, to provide financing to Raiffeisen Bank Bosnia and Herzegovina (RBBH) for expanded financing of small and medium-size enterprises (SMEs) and retail lending, will contribute to a stronger and more integrated economy in Bosnia and Herzegovina and directly support implementation of the Dayton Accords. I therefore waive the application of Section 561 of the FOAA to the extent that provision would otherwise prevent the U.S. Executive Directors of the EBRD from voting in favor of this project.

This Determination shall be reported to the Congress and published in the Federal Register.

Dated: August 31, 2006.
Daniel Fried,
Assistant Secretary of State for European and Eurasian Affairs, Department of State.

[FR Doc. E6-15072 Filed 9-11-06; 8:45 am]

BILLING CODE 4710-23-P